DEPARTMENT OF TRANSPORTATION

Surface Transportation Board

49 CFR Part 1244

[STB Ex Parte No. 385 (Sub-No. 5)]

Modification of the Carload Waybill Sample Reporting Procedures

AGENCY: Surface Transportation Board, DOT.

ACTION: Notice of proposed rulemaking.

SUMMARY: The Surface Transportation Board solicits comments on modifying the Waybill Sample reporting regulations to require all railroads to identify international rail traffic moving from or through the United States and to report such traffic in the Waybill Sample as if the traffic had terminated at the United States border. The intent of this proposal is to ensure that the Waybill Sample reflects a representative sample of all railroad traffic moving on the United States rail system.

DATES: Comments are due on October 23, 2000.

ADDRESSES: Send comments referring to STB Ex Parte No. 385 (Sub-No. 5) to: Surface Transportation Board, Office of the Secretary, Case Control Branch, 1925 K Street, NW, Washington, D.C. 20423-0001. See 49 CFR part 1104 for specific filing requirements.

FOR FURTHER INFORMATION CONTACT: James Nash, (202) 565-1542 or H. Jeff Warren, (202) 565-1533. [Assistance for the hearing impaired is available through TDD services (202) 565-1695.]

SUPPLEMENTARY INFORMATION: Railroads that annually terminate 4,500 or more carloads (or 5 percent of the carloads in any state) are required to report data, including revenues, on individual movements drawn from a representative sampling of their traffic. This Waybill Sample is used for a variety of purposes by the Board, by parties appearing before the agency, by other Federal and State agencies, and by the public in general. Because of the increasing volume of rail traffic moving between the United States, Canada and Mexico, we are proposing to revise the Waybill Sample reporting requirements to ensure that the United States portion of such traffic is captured in the Waybill Sample. To do so, we seek comment on requiring all railroads operating in the United States: (1) To report traffic moving to Canada or Mexico as if it terminated at the United States border, (2) to identify (“flag”) that traffic as international traffic in the waybill records, and (3) to report only the United States portion of the total revenue. ¹

¹ The Waybill Sample reporting railroad would be required to calculate the revenue for international traffic as the total shipment revenue less that portion of the total revenue attributable to those segments of the movement occurring outside the United States.

Without this modification, the Waybill Sample will not reflect information on railroad shipments that originate in the United States and terminate in either Canada or Mexico or that originate in either Canada or Mexico, move though the United States, and terminate outside the United States. International traffic moving from or through the United States is expected to increase significantly as a result of the North American Free Trade Agreement (NAFTA) and this proposal is designed to ensure that the Waybill Sample captures that traffic.

We do not believe this proposed modification will place a significant additional reporting burden on the railroad industry. Only railroads already submitting a Waybill Sample should be affected, and the impact should be limited to a one-time modification of the computer programs used to develop the Waybill Sample. Indeed, the Canadian National Railway Company and the Canadian Pacific Railway Company have volunteered to develop the Waybill Sample for their United States affiliates in accordance with our proposed rules.

This action will not significantly affect either the quality of the human environment or energy conservation.

Pursuant to 5 U.S.C. 605(b), we preliminarily conclude that our action will not have a significant economic impact on a substantial number of small entities within the meaning of the Regulatory Flexibility Act.

List of Subjects in 49 CFR Part 1244

Freight, Railroads, Reporting, and recordkeeping requirements.

Decided: August 31, 2000.
By the Board, Chairman Morgan, Vice Chairman Burkes, and Commissioner Clyburn.
Vernon A. Williams,
Secretary.

For the reasons set forth in the preamble, Title 49, Part 1244 of the Code of Federal Regulations would be amended as follows:

1. The authority citation for Part 1244 continues to read as follows:

Authority: 49 U.S.C. 721, 10707, 11144, 11145.

2. Section 1244.3 is amended by revising the heading and adding paragraphs (c) through (e) to read as follows:

§ 1244.3 Reporting contract shipment waybills and international waybills.

* * * * *

(c) Railroads shall treat international rail traffic that moves from or through the United States, but terminates outside the United States, as terminating at the United States border.

(d) Railroads shall identify (“flag”) such movements as international traffic in the waybill records.

(e) Railroads shall include only the United States portion of the total revenue of international traffic. The United States portion shall be calculated as the total shipment revenue less that portion of the total revenue attributable to those segments of the movement occurring outside the United States.

[FR Doc. 00-23136 Filed 9-7-00; 8:45 am]

BILLING CODE 4915-00-P